DEPARTMENT OF ENERGY

Federal Energy Regulatory Commission

[Project No. 12094-000]

Hydro Technology Systems, Inc.; Notice of Availability of Environmental Assessment

August 13, 2003.

In accordance with the National Environmental Policy Act of 1969, as amended, and the Federal Energy Regulatory Commission's (Commission) regulations (18 CFR part 380), the Office of Energy Projects (OEP) staff has reviewed an application for an amendment of exemption to increase the authorized nameplate capacity at the Meyers Falls 1910 Project, FERC No. 12094, and has prepared an Environmental Assessment (EA) on the application. The project is located in the bypass reach of the Meyers Falls Project, FERC No. 2544, on the Colville River in Stevens County near the city of Kettle Falls, Washington. The exempt project, which is under construction, has an authorized capacity of 300 kW (one generating unit) with a hydraulic capacity of 50 cubic feet per second (cfs).

Specifically, the project exemptee (Hydro Technology Systems, Inc.) has requested Commission approval to amend the present exemption to install two units instead of one with the same authorized (300 kW) generation and (50 cfs) hydraulic capacity. In addition, the exemptee proposes to add a third generating unit with a hydraulic capacity of 12 cfs to its authorized plant. The proposed change would only effect the generating equipment located in the powerhouse and the efficient use of available flows, but not the amount of flow used. The required 25 cfs bypass flow of the Meyers Falls Project, FERC No. 2544, and the total water rights quantity (50 cfs) for the subject project would not be affected.

In the EA, OEP staff analyzed the probable environmental effects of the proposed amendment and has concluded that approval of the proposal would not constitute a major Federal action significantly affecting the quality of the human environment.

The EA is attached to the Order Amending Exemption issued on August 12, 2003. Copies of the EA are available for review in Public Reference Room 2-A of the Commission's offices at 888 First Street, NE., Washington, DC. The EA also may be viewed on the Commission's Internet Web site (http://www.ferc.gov) using the eLibrary (FERRIS) link. Click on the eLibrary link, enter the docket number excluding the last three digits in the Docket Number field. Be sure you have selected an appropriate date range. For assistance with FERRIS, the FERRIS helpline can be reached at 1-866-208-3676, TTY (202) 502-8659, or by e-mail to FERCOnlineSupport@ferc.gov. The eLibrary link on the FERC's Internet Web site also provides access to the texts of formal documents issued by the Commission, such as orders, notices, and rulemakings.

Linda Mitry,
Acting Secretary.

[FR Doc. 03-21259 Filed 8-19-03; 8:45 am]

BILLING CODE 6717-01-P